DEPARTMENT OF TRANSPORTATION

Office of the Secretary

Aviation Proceedings, Agreements Filed the Week Ending February 26, 2011

The following Agreements were filed with the Department of Transportation under the Sections 412 and 414 of the Federal Aviation Act, as amended (49 U.S.C. 1382 and 1384) and procedures governing proceedings to enforce these provisions. Answers may be filed within 21 days after the filing of the application.

Docket Number: DOT-OST-2011-0037.

Date Filed: February 25, 2011.

Parties: Members of the International Air Transport Association.

Subject: Composite Passenger Tariff Coordinating Conference, Geneva, 22 October 2010, Composite Resolutions 012, 026, 047a, 076xx, 076z, 087aa, Intended Effective Date: 1 April 2011.

Docket Number: DOT-OST-2011-0038.

Date Filed: February 25, 2011.

Parties: Members of the International Air Transport Association.

Subject: Composite Passenger Tariff Coordinating Conference, Geneva, 22 October 2010, Composite Resolutions 017a, 017c, Intended Effective Date: 1 April 2011.

Docket Number: DOT-OST-2011-0039.

Date Filed: February 25, 2011.

Parties: Members of the International Air Transport Association.

Subject: Composite Passenger Tariff Coordinating Conference, Geneva, 22 October 2010, Composite Resolution 024c, Intended Effective Date: 1 April 2011.

Renee V. Wright,
Program Manager, Docket Operations, Federal Register Liaison.

[FR Doc. 2011-5596 Filed 3-10-11; 8:45 am]

BILLING CODE 4910-9X-P